DEPARTMENT OF DEFENSE

Department of the Navy

Notice of Closed Meeting of the Chief of Naval Operations (CNO) Executive Panel

AGENCY: Department of the Navy, DoD.

ACTION: Notice.

SUMMARY: The CNO Executive Panel will report on the findings and recommendations of the Navy's Role in Irregular Warfare to the Chief of Naval Operations. The meeting will consist of discussions of current and future Navy strategy, plans, and policies in support of U.S. irregular challenges.

DATES: The closed Executive Session will be held on Monday, November 16, 2009, from 3:10 p.m. to 5 p.m.

ADDRESSES: The meeting will be held in the Boardroom at the CNA Building, 4825 Mark Center Drive, Alexandria, VA 22311-1846.

FOR FURTHER INFORMATION CONTACT: Lieutenant Commander Brian S. FitzPatrick, CNO Executive Panel, 4825 Mark Center Drive, Alexandria, VA 22311-1846, (703) 681-4924.

SUPPLEMENTARY INFORMATION: Pursuant to the provisions of the Federal Advisory Committee Act, as amended (5 U.S.C. App.), matters that constitute classified information that have been properly classified pursuant to such Executive Order are specifically authorized to be kept secret in the interest of national defense. Accordingly, the Secretary of the Navy has determined in writing that the public interest requires that the sessions of this meeting be closed to the public because they will be concerned with classified matters that are governed by section 552b(c)(1) of title 5, United States Code.

Individuals or interested groups may submit written statements for consideration by the Chief of Naval Operations Executive Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the Chief of Naval Operations Executive Panel Chairperson, and ensure they are provided to members of the Chief of Naval Operations Executive Panel before the meeting that is the subject of this notice.

To contact the Designated Federal Officer, write to Executive Director, CNO Executive Panel (N00K), 4825 Mark Center Drive, 2nd Floor, Alexandria, VA 22311-1846.

Dated: October 20, 2009.
A. M. Vallandingham,
Lieutenant Commander, Office of the Judge Advocate General, U.S. Navy, Federal Register Liaison Officer.

[FR Doc. E9-25642 Filed 10-23-09; 8:45 am]

BILLING CODE 3810-FF-P